FEDERAL COMMUNICATIONS COMMISSION

Notice of Public Information Collection(s) Being Reviewed by the Federal Communications Commission

April 16, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning whether the proposed collection of information is necessary for the proper performance of the functions of the Commission, including whether the information shall have practical utility; the accuracy of the Commission's burden estimate; ways to enhance the quality, utility, and clarity of the information collected; and ways to minimize the burden of the collection of information on the respondents, including the use of automated collection techniques or other forms of information technology.

DATES: Written comments should be submitted on or before June 24, 2002. If you anticipate that you will be submitting comments, but find it difficult to do so within the period of time allowed by this notice, you should advise the contact listed below as soon as possible.

ADDRESSES: Direct all comments to Les Smith, Federal Communications Commission, Room 1-A804, 445 12th Street, SW., Washington, DC 20554, or via the Internet to lesmith@fcc.gov.

FOR FURTHER INFORMATION CONTACT: For additional information or copies of the information collection(s), contact Les Smith at 202-418-0217 or via the Internet at lesmith@fcc.gov.

SUPPLEMENTARY INFORMATION: OMB Control Number: 3060-0540.

Title: Tariff Filing Requirements for Nondominant Common Carriers.

Form Number: N/A.

Type of Review: Extension of a currently approved collection.

Respondents: Business or other for-profit entities.

Number of Respondents: 2,000.

Estimated Time Per Response: 10.5 hours (avg).

Frequency of Response: On occasion reporting requirements.

Total Annual Burden: 21,000 hours.

Total Annual Cost: $1,260,000.

Needs and Uses: Domestic nondominant carriers must file tariffs pursuant to 47 U.S.C. section 203, while implementing regulations are found at 47 CFR sections 61.20-61.23. Domestic nondominant common carriers must file tariffs containing specific rates. The FCC uses this information to determine whether the rates, terms, and conditions of service offered are just and reasonable, as required under the Telecommunications Act of 1996, as amended.

OMB Control Number: 3060-0687.

Title: Access to Telecommunications Equipment and Services by Persons with Disabilities, CC Docket No. 87-124.

Form Number: N/A.

Type of Review: Extension of a currently approved collection.

Respondents: Business or other for-profit entities.

Number of Respondents: 806,100.

Estimated Time Per Response: 1.2 hours (avg).

Frequency of Response: On occasion reporting requirements; Third party disclosure.

Total Annual Burden: 991,000 hours.

Total Annual Cost: $638,000.

Needs and Uses: 47 CFR section 68.300 requires telephones with electro-magnetic coil hearing aid compatibility to be stamped with the letters HAC (hearing aid compatible). Section 68.112(b)(3)(E) requires that employers with 15 or more employees provide emergency telephones for use by employees with hearing disabilities and that the employers “designate” such telephones for emergency use. Section 68.224 requires a notice to be contained on the surface of the packaging of a telephone that is not hearing aid compatible. The collection will be useful primarily to consumers who purchase and/or use telephone equipment to determine whether the telephone is hearing aid compatible.

OMB Control Number: 3060-0787.

Title: Implementation of the Subscriber Carrier Selection Changes Provisions of the Telecommunications Act of 1996; Policies and Rules Concerning Unauthorized Changes of Consumers Long Distance Carriers.

Form Number: FCC Form 478.

Type of Review: Extension of a currently approved collection.

Respondents: Business or other for profit entities; Individuals or households; and State, local, or tribal government.

Number of Respondents: 28,414.

Estimated Time Per Response: 2 to 10 hours (avg).

Frequency of Response: Recordkeeping; On occasion and semi-annual reporting requirements; Third party disclosure.

Total Annual Burden: 135,126 hours.

Total Annual Cost: None.

Needs and Uses: The goal of Section 258 is to eliminate the practice of “slamming,” which is the unauthorized change of a subscriber's preferred carrier. The rules and requirements implementing Section 258 can be found in 47 CFR Part 64. The purpose of these rules is to improve the carrier change process for consumers and carriers alike, while making it more difficult for unscrupulous carriers to perpetrate slams. In addition, each telephone exchange and/or telephone toll provider is required to submit a semi-annual report on the number of slamming complaints it receives.

Federal Communications Commission.
William F. Caton,
Acting Secretary.

[FR Doc. 02-9870 Filed 4-22-02; 8:45 am]

BILLING CODE 6712-01-P